DEPARTMENT OF THE INTERIOR

National Park Service

[NPS-WASO-NAGPRA-NPS0035860; PPWOCRADN0-PCU00RP14.R50000]

Notice of Inventory Completion: Columbia Gorge Discovery Center and Museum, The Dalles, OR

AGENCY: National Park Service, Interior.

ACTION: Notice.

SUMMARY: In accordance with the Native American Graves Protection and Repatriation Act (NAGPRA), the Columbia Gorge Discovery Center and Museum has completed an inventory of human remains and has determined that there is a cultural affiliation between the human remains and Indian Tribes or Native Hawaiian organizations in this notice. The human remains were removed from an unknown burial site on the banks of the Columbia River (between Washington and Oregon) of the Columbia River Plateau and Klickitat County, WA.

DATES: Repatriation of the human remains in this notice may occur on or after June 20, 2023.

ADDRESSES: Susan Buce, Columbia Gorge Discovery Center & Museum, 5000 Discovery Drive, The Dalles, OR 97058, telephone (541) 296-8600 Ext. 242, email collections@gorgediscovery.org.

SUPPLEMENTARY INFORMATION: This notice is published as part of the National Park Service's administrative responsibilities under NAGPRA. The determinations in this notice are the sole responsibility of the Columbia Gorge Discovery Center and Museum. The National Park Service is not responsible for the determinations in this notice. Additional information on the determinations in this notice, including the results of consultation, can be found in the inventory or related records held by the Columbia Gorge Discovery Center and Museum.

Description

Human remains representing, at minimum, one individual were removed at an unknown time from a burial site located along the banks or islands of the Columbia River near The Dalles, in Wasco County, OR, and Wishram, in Klickitat County, WA, by James Gosson. In 2003, Gosson donated these human remains to the Museum. The human remains belong to an adult of unknown sex. No known individual was identified. No associated funerary objects are present.

Human remains representing, at minimum, one individual were removed from private property in White Salmon, Klickitat County, WA by Allen B. Clarke. Clarke found these human remains while digging out his basement. Following his death, the human remains were donated to the Museum in 2013 by his wife, Rosalie Clarke. The human remains belong to an adult male. No known individual was identified. No associated funerary objects are present.

Native American People from both sides of the Columbia River utilized the islands on the Columbia River that border the present-day states of Oregon and Washington, in the north central Columbia River Plateau region, for burial. Early and late published ethnographic documentation indicates that this area was the aboriginal territory of the Western Columbia River Sahaptins, Wasco, Wishram, Yakima, Walla Walla, Umatilla, Tenino, and Skin (Daugherty 1973, Hale 1841, Hunn and French 1998, Stern 1998, French and French 1998, Mooney 1896, Murdock 1938, Ray 1936 and 1974, Spier 1936).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the Columbia Gorge Discovery Center and Museum has determined that:

• The human remains described in this notice represent the physical remains of two individuals of Native American ancestry.

• There is a relationship of shared group identity that can be reasonably traced between the human remains and associated funerary objects described in this notice and the Confederated Tribes and Bands of the Yakama Nation; Confederated Tribes of the Umatilla Indian Reservation; and the Confederated Tribes of the Warm Springs Reservation of Oregon.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 20, 2023. If competing requests for repatriation are received, the Columbia Gorge Discovery Center and Museum must determine the most appropriate requestor prior to repatriation. Requests for joint repatriation of the human remains and associated funerary objects are considered a single request and not competing requests. The Columbia Gorge Discovery Center and Museum is responsible for sending a copy of this notice to the Indian Tribes identified in this notice.

Authority: Native American Graves Protection and Repatriation Act, 25 U.S.C. 3003, and the implementing regulations, 43 CFR 10.9, 10.10, and 10.14.

Dated: May 10, 2023.
Melanie O'Brien,
Manager, National NAGPRA Program.

[FR Doc. 2023-10555 Filed 5-17-23; 8:45 am]

BILLING CODE 4312-52-P